DEPARTMENT OF COMMERCE

National Oceanic and Atmospheric Administration

Notice of Intent To Conduct Scoping and To Prepare a Draft Environmental Impact Statement for the Proposed Hudson Canyon National Marine Sanctuary

Correction

In notice document 2022-12234 beginning on page 34853 in the issue of Wednesday, June 8, 2022, make the following correction:

On page 34853, in the second column, in the last two lines, “https://sanctuaries.cnoaa.gov/hudson-canyon/” should read “https://sanctuaries.noaa.gov/hudson-canyon/”.

[FR Doc. C1-2022-12234 Filed 6-27-22; 8:45 am]

BILLING CODE 0099-10-D